DEPARTMENT OF HEALTH AND HUMAN SERVICES

National Institutes of Health

Center for Scientific Review; Amended Notice of Meeting

Notice is hereby given of a change in the meeting of the Center for Scientific Review Special Emphasis Panel, July 20, 2009, 8 a.m. to July 21, 2009, 5 p.m., Melrose Hotel, 2430 Pennsylvania Avenue, NW., Washington, DC 20037 which was published in the Federal Register on June 15, 2009, 74 FR 28260-28262.

The meeting will be held at the Ritz Carlton Hotel, 1150 22nd Street, NW., Washington, DC 20037. The meeting dates and time remain the same. The meeting is closed to the public.

Dated: July 7, 2009.
Jennifer Spaeth,
Director, Office of Federal Advisory Committee Policy.

[FR Doc. E9-16571 Filed 7-13-09; 8:45 am]

BILLING CODE 4140-01-P